FEDERAL COMMUNICATIONS COMMISSION

47 CFR Part 73

[MB Docket No. 13-249; FCC 17-119]

Revitalization of the AM Radio Service

AGENCY: Federal Communications Commission.

ACTION: Final rule; announcement of effective date.

SUMMARY: In this document, the Federal Communications Commission (Commission) announces that the Office of Management and Budget (OMB) has approved, for a period of three years, information collection requirements adopted in the Commission's Third Report and Order, FCC 17-119. This document is consistent with the Third Report and Order, which stated that the Commission would publish a document in the Federal Register announcing OMB approval and the effective date of the rules.

DATES: The rule amendments to 47 CFR 73.151(c)(1)(ix) and (x) and (c)(3), 47 CFR 73.154(a), and 47 CFR 73.155, published at 82 FR 51161, November 3, 2017, are effective on March 21, 2018.

FOR FURTHER INFORMATION CONTACT: Cathy Williams by email at Cathy.Williams@fcc.gov and telephone at (202) 418-2918.

SUPPLEMENTARY INFORMATION: This document announces that, on March 8, 2018, OMB approved information collection requirements contained in the Commission's Report and Order, FCC 17-119, published at 82 FR 51161. The OMB Control Number is 3060-0991. The Commission publishes this notice as an announcement of the effective date of those information collection requirements.

Synopsis

As required by the Paperwork Reduction Act of 1995 (44 U.S.C. 3507), the FCC is notifying the public that it received OMB approval on March 8, 2018, for the information collection requirements contained in 47 CFR 73.151(c)(1)(ix) and (x) and (c)(3), 47 CFR 73.154(a), and 47 CFR 73.155, as amended, in the Commission's Report and Order, FCC 17-119. Under 5 CFR part 1320, an agency may not conduct or sponsor a collection of information unless it displays a current, valid OMB Control Number. No person shall be subject to any penalty for failing to comply with a collection of information subject to the Paperwork Reduction Act that does not display a current, valid OMB Control Number. The OMB Control Number is 3060-0991. The foregoing notice is required by the Paperwork Reduction Act of 1995, Public Law 104-13, October 1, 1995, and 44 U.S.C. 3507.

The total annual reporting burdens and costs for the respondents are as follows:

OMB Control Number: 3060-0991.

OMB Approval Date: March 8, 2018.

OMB Expiration Date: March 31, 2021.

Title: AM Measurement Data.

Form Number: N/A.

Respondents: Business or other for-profit entities.

Number of Respondents and Responses: 1,800 respondents; 3,135 responses.

Estimated Time per Response: 0.50 hours-25 hours.

Frequency of Response: Recordkeeping requirement, Third Party disclosure requirement, On occasion reporting requirement.

Obligation To Respond: Required to obtain or retain benefits. The statutory authority for this collection of information is contained in Sections 151, 152, 154(i), 303, and 307 of the Communications Act of 1934, as amended.

Total Annual Burden: 20,200 hours.

Total Annual Cost: $1,131,500.

Nature and Extent of Confidentiality: There is no need for confidentiality treatment with this collection of information.

Privacy Act Impact Assessment: No impact(s).

Needs and Uses: The Commission revised this information collection to reflect the September 22, 2017, adoption of the Third Report and Order in MB Docket No. 13-249, FCC 17-119, In the Matter of Revitalization of AM Radio Service (AMR Third R&O). Specifically, the AMR Third R&O removed certain requirements and associated burdens contained in 47 CFR 73.151, 73.154, and 73.155. To the extent the revisions affect reporting or record-keeping requirements, they reduce those burdens for AM broadcasters operating with directional antenna arrays. The Commission received approval for the revised information collection requirements contained under this collection from the Office of Management and Budget (OMB).

In the 2015 AM revitalization proceeding, the FCC proposed streamlining certain technical requirements to assist AM broadcasters in providing radio service to consumers. For example, almost 40 percent of all AM broadcast stations must employ directional antenna arrays during some or all of the broadcast day in order to avoid interference with other AM stations. Maintaining a directional signal pattern can be technically complex, time-consuming, and expensive. Such stations are subject to a variety of rules requiring signal strength measurements and other engineering analyses to ensure compliance with their authorizations.

In the AMR Third R&O, the FCC eliminated, clarified, or eased several of the rules governing AM stations using directional antenna arrays. First, the FCC revises 47 CFR 73.154(a) to relax the rule on submission of partial proofs of performance of directional AM antenna arrays by eliminating the requirement to take measurements on non-monitored radials adjacent to monitored radials. Next, the FCC modified several rules pertaining to AM stations that use Method of Moments (MoM) models of directional array performance. MoM modeling allows broadcasters to verify antenna system performance through computer modeling, as opposed to sending engineers into the field to take field strength measurements. Thus, a proof using a MoM model is less expensive than taking field strength measurements of an AM station's directional pattern. Specifically, the FCC: (1) Revised 47 CFR 73.151(c)(1)(ix) to eliminate the requirement of obtaining a registered surveyor's certification, provided that no new towers are being added to an existing AM array and the tower geometry is not changed; (2) added 47 CFR 73.151(c)(1)(x) to extend the exemption from having to file a new proof with the FCC to any AM tower modification that does not affect the modeled values used in the previously submitted license proof; (3) revised 47 CFR 73.151(c)(3) to retain the current requirement for submission of reference field strength measurements in the initial license application, but to eliminate the requirement to submit additional reference field strength measurements in subsequent license applications; and (4) revised 47 CFR 73.155 to eliminate the requirement for biennial recertification of the performance of a directional pattern licensed pursuant to a MoM proof, except when system components have been repaired or replaced.

Federal Communications Commission.
Marlene H. Dortch,
Secretary.

[FR Doc. 2018-05741 Filed 3-20-18; 8:45 am]

BILLING CODE 6712-01-P